DEPARTMENT OF THE INTERIOR

National Park Service

[NPS-WASO-NAGPRA-21299]; [PPWOCRADN0-PCU00RP14.R50000]

Notice of Inventory Completion: Georgia State University, Department of Anthropology, Atlanta, GA

AGENCY: National Park Service, Interior.

ACTION: Notice.

SUMMARY: Georgia State University has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to Georgia State University. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to Georgia State University at the address in this notice by July 28, 2016.

ADDRESSES: Dr. Frank Williams, Department of Anthropology, Georgia State University, P.O. Box 3998, Atlanta, GA 30302-3998, telephone (404) 413-5154, email frankwilliams@gsu.edu.

SUPPLEMENTARY INFORMATION: Notice is here given in accordance with the Native American Graves Protection and Repatriation Act (NAGPRA), 25 U.S.C. 3003, of the completion of an inventory of human remains under the control of Georgia State University. The human remains were removed from Greene County, TN, Altamaha River Basin, GA, and eastern Georgia.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Georgia State University professional staff in consultation with representatives of the Cherokee Nation; the Eastern Band of Cherokee Indians; The Muscogee (Creek) Nation; and the United Keetoowah Band of Cherokee Indians in Oklahoma. The following tribes were contacted, but either declined consultation or did not respond: The Alabama-Coushatta Tribe of Texas (previously listed as the Alabama-Coushatta Tribes of Texas); the Alabama-Quassarte Tribal Town; The Chickasaw Nation; the Coushatta Tribe of Louisiana; Kialegee Tribal Town; the Poarch Band of Creek Indians (previously listed as the Poarch Band of Creek Indians of Alabama); and the Thlopthlocco Tribal Town. All tribes in this section are hereafter referred to as The Consulted and Invited Tribes.

History and Description of the Remains

Between 1970 and 1975, human remains representing, at minimum, nine individuals were removed from an unknown site, probably in eastern Georgia. The human remains are thought to have been excavated by Antonio J. Waring. Evidence of head binding circumstantially agrees with the known Native American context of this excavation. All of Waring's excavations took place in the Southeastern United States, with the majority in eastern Georgia. Geographic evidence suggests these human remains are either Creek or Cherokee. No known individuals were identified. No associated funerary objects are present.

Between 1970 and 1980, human remains representing, at minimum, eight individuals were removed from site 40GN9 in Greene County, TN. Site 40GN9, a Middle Qualla site, was excavated by an unknown person, and transferred on an unknown date to Georgia State University. Geographic evidence suggests these human remains to be Cherokee, and likely from the town of Canasoga or Canasahaqui. These human remains are determined to be Native American based on the cultural and geographic documentation. No known individuals were identified. No associated funerary objects are present.

In March of 1971, human remains representing, at minimum, six individuals were removed from the Altamaha River basin, McIntosh County, GA. These human remains were removed by the late Dr. Wharton of the GSU Biology department, and received into custody at Georgia State University. The human remains were identified by Dr. Wharton as Native American. Geographical and archeological evidence suggests that these human remains are Native American, and likely Creek or Yamassee. No known individuals were identified. No associated funerary objects were present.

Determinations Made by Georgia State University

Officials of Georgia State University have determined that:

• Pursuant to 25 U.S.C. 3001(9), the human remains described in this notice represent the physical remains of 23 individuals of Native American ancestry.

• Pursuant to 25 U.S.C. 3001(2), there is a relationship of shared group identity that can be reasonably traced between the Native American human remains and Cherokee Nation; the Eastern Band of Cherokee Indians; The Muscogee (Creek) Nation; and the United Keetoowah Band of Cherokee Indians in Oklahoma.

Additional Requestors and Disposition

Lineal descendants or representatives of any Indian tribe or Native Hawaiian organization not identified in this notice that wish to request transfer of control of these human remains should submit a written request with information in support of the request to Dr. Frank Williams, Department of Anthropology, Georgia State University, P.O. Box 3998, Atlanta, GA 30302-3998, telephone (404) 413-5154, email frankwilliams@gsu.edu, by July 28, 2016. After that date, if no additional requestors have come forward, transfer of control of the human remains to the Cherokee Nation, Eastern Band of Cherokee Indians, Muscogee (Creek) Nation, and the United Keetoowah Band of Cherokee Indians in Oklahoma may proceed.

Georgia State University is responsible for notifying The Consulted and Invited Tribes that this notice has been published.

Dated: June 13, 2016.
Melanie O'Brien,
Manager, National NAGPRA Program.

[FR Doc. 2016-15243 Filed 6-27-16; 8:45 am]

BILLING CODE 4312-50-P